DEPARTMENT OF COMMERCE

International Trade Administration

A-588-804

Ball Bearings and Parts Thereof from Japan: Notice of Court Decision Not in Harmony

AGENCY: Import Administration, International Trade Administration, Department of Commerce.

SUMMARY: On October 23, 2006, the United States Court of International Trade affirmed the Department of Commerce's (the Department's) redetermination on remand of the final results of the administrative review of the antidumping duty order on ball bearings and parts thereof from Japan. See NSK Ltd., et al., v. United States, Court No. 04-00519, slip op. 06-157 (CIT 2006). This case arises from the Department's final results of Antifriction Bearings and Parts Thereof From France, Germany, Italy, Japan, Singapore, and the United Kingdom: Final Results of Antidumping Duty Administrative Reviews, Rescission of Administrative Reviews in Part, and Determination To Revoke Order in Part, 69 FR 55574 (September 15, 2004) (Final Results). The Department is now issuing this notice of court decision not in harmony with the Department's Final Results.

EFFECTIVE DATE: November 14, 2006.

FOR FURTHER INFORMATION CONTACT: Thomas Schauer or Richard Rimlinger, AD/CVD Operations, Office 5, Import Administration, U.S. Department of Commerce, 14th Street and Constitution Avenue, NW., Washington, DC 20230; telephone: (202) 482-0410 or (202) 482-4477, respectively.

SUPPLEMENTARY INFORMATION:

Background

On September 15, 2004, the Department published the final results of the administrative review of the antidumping duty order on ball bearings and parts thereof from Japan for the period May 1, 2002, through April 30, 2003. See Final Results, 69 FR 55574. Koyo Seiko Co., Ltd., and Koyo Corp. of U.S.A. (hereafter “Koyo”) filed a lawsuit challenging the final results. On January 31, 2006, the United States Court of International Trade (CIT) remanded the Department's determination and ordered the Department to not treat Koyo's positive lump-sum billing adjustments differently than Koyo's negative lump-sum billing adjustments. See NSK Ltd., et al., v. United States, 416 F. Supp. 2d 1334 (CIT 2006) (NSK). In accordance with the CIT's remand order, the Department filed its remand redetermination on March 31, 2006. On October 23, 2006, the CIT affirmed the Department's remand results.

Decision Not in Harmony

Although the CIT ruled that our decision in the Final Results to treat Koyo's positive lump-sum billing adjustments differently than Koyo's negative lump-sum billing adjustments was not in accordance with law, the CIT affirmed our decision in the remand redetermination to deny all of Koyo's lump-sum billing adjustments.

The changes to our calculations with respect to Koyo resulted in a change in the weighted-average margin for ball bearings and parts thereof from 5.56 percent to 5.55 percent for the period of review. Accordingly, absent an appeal or, if appealed, upon a “conclusive” decision by the Court, we will amend our final results of this review to reflect the recalculation of the margin for Koyo.

Suspension of Liquidation

The United States Court of Appeals for Federal Circuit (CAFC) has held that the Department must publish notice of a decision of the CIT or the CAFC which is not in harmony with the Department's determination. See The Timken Company v. United States, 893 F.2d 337, 341 (Fed. Cir. 1990). Publication of this notice fulfills that obligation. The CAFC also held that, in such a case, the Department must suspend liquidation until there is a “conclusive” decision in the action. Id. Therefore, the Department must suspend liquidation pending the expiration of the period to appeal the CIT's October 23, 2006, decision or pending a final decision of the CAFC if that decision is appealed.

Because entries of ball bearings and parts thereof from Japan produced by, exported to, or imported into the United States by Koyo are currently being suspended pursuant to the court's injunction order, the Department does not need to order U.S. Customs and Border Protection to suspend liquidation of affected entries. The Department will not order the lifting of the suspension of liquidation on entries of ball bearings and parts thereof made during the review period before a court decision in this lawsuit becomes final and conclusive.

We are issuing and publishing this notice in accordance with section 516A(c)(1) of the Tariff Act of 1930, as amended.

Dated: November 6, 2006.
David M. Spooner,
Assistant Secretary for Import Administration.

[FR Doc. E6-19186 Filed 11-13-06; 8:45 am]

BILLING CODE 3510-DS-S